Proclamation 10381 of April 29, 2022

National Physical Fitness and Sports Month, 2022

By the President of the United States of America

A Proclamation

Throughout the pandemic, Americans have found creative ways to maintain their physical fitness through sports or other forms of physical activity. During National Physical Fitness and Sports Month, we renew our commitment to staying active and encourage all Americans to participate in activities that improve their well-being and lead to healthier lifestyles.

Thanks to our dedicated health care professionals and millions of Americans who have gotten vaccinated and boosted, schools, gyms, and businesses across the country have reopened. Stadiums are, once again, filled with fans cheering on their favorite sports teams and athletes.

But for the past few years, rates of physical activity have decreased—especially among groups at high risk for COVID-19. Socioeconomic disparities, including a lack of opportunities to participate in sports and fitness programs, have exacerbated the problem. The environments where people live, learn, work, and play also affect physical activity. Other barriers to regular physical activity, such as time, money, safety, and accessibility, impact the health and well-being of children and adults in every community. We must seek out equitable solutions to ensure that all Americans can live a more active, healthier lifestyle.

Fitness and sports are not only good for our physical health, they also improve the quality of our lives overall. Experts agree that even small amounts of physical activity can make a significant difference in a person's physical and mental health. For example, it can reduce the risk of chronic diseases, blood pressure, and anxiety while improving sleep—among other health benefits.

Every sector has a role to play in removing barriers and increasing opportunities for Americans to participate in physical activities. That is why I issued an Executive Order to renew the President's Council on Sports, Fitness & Nutrition, focusing on the importance of mental health related to physical fitness and nutrition. Through the Centers for Disease Control and Prevention's “Active People, Healthy Nation” initiative, we are providing an evidence-based blueprint to help 27 million Americans become more physically active by 2027. Additionally, the Department of Health and Human Services’ “Move Your Way” campaign is informing Americans about activities they can do to stay healthy through the Physical Activity Guidelines for Americans.

This month, let us all find ways to become more physically active in our daily lives. Take a walk, hike in your favorite park, try a new fitness class, join a local sports team, or volunteer at a community race. Whatever physical activity you choose, fitness will lead to better and healthier lives for all Americans.

NOW, THEREFORE, I, JOSEPH R. BIDEN JR., President of the United States of America, by virtue of the authority vested in me by the Constitution and the laws of the United States, do hereby proclaim May 2022 as National Physical Fitness and Sports Month. I call upon the people of the United States to make daily physical activity a priority, to support efforts to increase access to sports opportunities in their communities, and to pursue physical fitness as an essential part of healthy living.

IN WITNESS WHEREOF, I have hereunto set my hand this twenty-ninth day of April, in the year of our Lord two thousand twenty-two, and of the Independence of the United States of America the two hundred and forty-sixth.

[FR Doc. 2022-09761

Filed 5-4-22; 8:45 am]

Billing code 3395-F2-P